SOCIAL SECURITY ADMINISTRATION

20 CFR Part 416

[Docket No. SSA-2023-0024]

RIN 0960-AI83

Intermediate Improvement to the Disability Adjudication Process: Including How We Consider Past Work; Correction

AGENCY: Social Security Administration.

ACTION: Notice of proposed rulemaking; correction.

SUMMARY: On September 29, 2023, we published a proposed rule entitled Intermediate Improvement to the Disability Adjudication Process: Including How We Consider Past Work. The proposed rule inadvertently contained a sentence of regulatory text which should have been removed. We are publishing this document to correct the error.

DATES: December 1, 2023.

ADDRESSES: Mary Quatroche, Office of Disability Policy, Social Security Administration, 6401 Security Boulevard, Baltimore, Maryland 21235-6401, or regulations@ssa.gov.

For information on eligibility or filing for benefits, visit our internet site, Social Security Online, at https://www.socialsecurity.gov.

FOR FURTHER INFORMATION CONTACT: Mary Quatroche, Office of Disability Policy, Social Security Administration, 6401 Security Boulevard, Baltimore, Maryland 21235-6401, (410) 966-4794, or regulations@ssa.gov. For information on eligibility or filing for benefits, call our national toll-free number, 1-800-772-1213, or TTY 1-800-325-0778, or visit our internet site, Social Security Online, at https://www.socialsecurity.gov.

SUPPLEMENTARY INFORMATION:

Correction

We published a proposed rule, on September 29, 2023, (88 FR 67135). We propose revising the time period that we consider when determining whether an individual's past work is relevant for purposes of making disability determinations and decisions. That document inadvertently contained a sentence in proposed 20 CFR 416.965(a) on page 67148 in the 2nd column, beginning at line 23, which read, “The five-year guide is intended to ensure that remote work experience is not currently applied.” This correction removes that sentence.

Correct § 416.965(a) by removing the above sentence. The revised text to read as follows:

§ 416.965 Your work experience as a vocational factor. [Corrected]

(a) General. Work experience means skills and abilities you have acquired through work you have done which show the type of work you may be expected to do. Work you have already been able to do shows the kind of work that you may be expected to do. We consider that your work experience applies when it was done within the last five years, lasted long enough for you to learn to do it, and was substantial gainful activity. We do not usually consider that work you did more than five years before the time we are deciding whether you are disabled applies. A gradual change occurs in most jobs so that after five years it is no longer realistic to expect that skills and abilities acquired in a job done then continue to apply. If you have no work experience or worked only “off-and-on” or for brief periods of time during the five-year period, we generally consider that these do not apply. If you have acquired skills through your past work, we consider you to have these work skills unless you cannot use them in other skilled or semi-skilled work that you can now do. If you cannot use your skills in other skilled or semi-skilled work, we will consider your work background the same as unskilled. However, even if you have no work experience, we may consider that you are able to do unskilled work because it requires little or no judgment and can be learned in a short period of time.

* * * * *

Faye I. Lipsky,
Federal Register Liaison, Office of Legislation and Congressional Affairs, Social Security Administration.

[FR Doc. 2023-26180 Filed 11-30-23; 8:45 am]

BILLING CODE 4191-02-P